DEPARTMENT OF HEALTH AND HUMAN SERVICES

National Institutes of Health

National Institute on Drug Abuse; Notice of Meeting

Pursuant to section 1009 of the Federal Advisory Committee Act, as amended, notice is hereby given of a meeting of the National Advisory Council on Drug Abuse.

The meeting will be held as a virtual meeting and is open to the public, as indicated below. Individuals who plan to view the virtual meeting and need special assistance such as sign language interpretation or other reasonable accommodations to view the meeting, should notify Dr. Jeanette Marketon via email at jeanette.marketon@nih.gov five days in advance of the meeting. The open session will be videocast and can be accessed from the NIH Videocasting and Podcasting website (http://videocast.nih.gov/).

A portion of the meeting will be closed to the public in accordance with the provisions set forth in sections 552b(c)(4) and 552b(c)(6), Title 5 U.S.C., as amended. The intramural programs and projects as well as the grant applications and/or contract proposals and the discussions could disclose confidential trade secrets or commercial property such as patentable material, and personal information concerning individuals associated with intramural programs and projects as well as the grant applications and/or contract proposals, the disclosure of which would constitute a clearly unwarranted invasion of personal privacy.

Name of Committee: National Advisory Council on Drug Abuse.

Date: February 6, 2024.

Closed: 10:30 a.m. to 11:45 a.m. Agenda: To review and evaluate grant applications.

Closed: 11:45 a.m. to 12:15 p.m. Agenda: Report to Council from the NIDA Board of Scientific Counselors (BSC).

Open: 12:45 p.m. to 5:00 p.m. Agenda: Presentations and other business of the Council.

Place: National Institutes of Health, National Institute on Drug Abuse, 301 North Stonestreet Avenue, Bethesda, MD 20892 (Virtual Meeting).

Contact Person: Susan R.B. Weiss, Ph.D., Director, Division of Extramural Research, Office of the Director, National Institute on Drug Abuse, NIH, Three White Flint North, RM 09D08, 11601 Landsdown Street, Bethesda, MD 20852 301-443-6480 sweiss@nida.nih.gov.

Contact Person: Jeanette Marketon, Ph.D., Director, Office of Extramural Policy, Division of Extramural Research Office of Extramural Policy, National Institute on Drug Abuse, NIH, Three White Flint North, RM 09C68, 11601 Landsdown Street, Bethesda, MD 20852, 301-443-5239 jeanette.marketon@nih.gov.

Any interested person may file written comments with the committee by forwarding the statement to Dr. Jeanette Marketon at jeanette.marketon@nih.gov. The statement should include the name, address, telephone number and when applicable, the business or professional affiliation of the interested person.

Information is also available on the Institute's/Center's home page: www.drugabuse.gov/NACDA/NACDAHome.html, where an agenda and any additional information for the meeting will be posted when available.

(Catalogue of Federal Domestic Assistance Program Nos. 93.277, Drug Abuse Scientist Development Award for Clinicians, Scientist Development Awards, and Research Scientist Awards; 93.278, Drug Abuse National Research Service Awards for Research Training; 93.279, Drug Abuse and Addiction Research Programs, National Institutes of Health, HHS)

Dated: October 20, 2023.
David W. Freeman,
Supervisory Program Analyst, Office of Federal Advisory Committee Policy.

[FR Doc. 2023-23628 Filed 10-25-23; 8:45 am]

BILLING CODE 4140-01-P